OFFICE OF PERSONNEL MANAGEMENT

[OMB No. 3206-0165]

Proposed Collection; Comment Request for Revised Information Collections

AGENCY: Office of Personnel Management.

ACTION: Notice.

SUMMARY: In accordance with the Paperwork Reduction Act of 1995 (Pub. L. 104-13), this notice announces that the Office of Personnel Management intends to submit to the Office of Management and Budget a request for clearance of revised information collections. Depending upon the type of background investigation requested by the Federal agency, the Investigative Request for Employment Data and Supervisor information (INV 41), the Investigative Request for Personal Information (INV 42), the Investigative Request for Educational Registrar and Dean of Students Record Data (INV 43), and the Investigative Request for Law Enforcement Data (INV 44) are forms used in the processing of background investigations to assist in determining whether an applicant is suitable for Federal employment or should be granted a security clearance. OPM sends INV 41 questionnaires to past and present employers and supervisors identified on the applicant's investigative questionnaire. The form asks the recipient to address such questions as the reason the applicant left the employment and their eligibility for rehire. OPM sends INV 42 questionnaires to individuals listed by the subject of investigation as people knowledgeable of the applicant on the investigative questionnaire. OPM sends INV 43 questionnaires to registrars and dean of students of the educational institutions listed by the subject of investigation to verify enrollment and degree information, and determine whether there is any relevant adverse information. OPM sends the INV 44 questionnaires to law enforcement jurisdictions in which the subject has had any significant period of activity during the designated scope of investigation. The INV 44 inquires about any outstanding warrants or record of criminal activity involving the subject of investigation.

The INV 41, INV 42, INV 43, and INV 44 ask the recipient to respond to questions concerning the applicant's honesty and integrity, as well as other security-related questions involving general conduct, use of intoxicants, finances and mental health.

Comments are particularly invited on:

• Whether this collection of information is necessary for the proper performance of functions of the Office of Personnel Management and its Center for Federal Investigative Services, which administers its background investigations;

• Whether our estimate of the public burden of this collection is accurate, and based on valid assumptions and methodology; and,

• Ways in which we can minimize the burden of the collection of information on those who are asked to respond, through the use of the appropriate technological collection techniques or other forms of information technology.

It is estimated that 1.12 million INV 41 inquiries are sent to supervisors and employers annually. Each form takes approximately five minutes to complete. The estimated annual burden is approximately 93,300 hours. It is estimated that 434,000 INV 42 inquiries are sent to individuals annually. Each form takes approximately five minutes to complete. The estimated annual burden is approximately 36,170 hours. It is estimated that 168,000 INV 43 inquiries are sent to educational institutions annually. Each form takes approximately five minutes to complete. The estimated annual burden is approximately 14,000 hours. It is estimated that 871,000 INV 44 inquiries are sent to law enforcement agencies annually. Each form takes approximately five minutes to complete. The estimated annual burden is approximately 72,583 hours. The total number of respondents for the INV 41, INV 42, INV 43, and INV 44 is 1,417,500 and the total estimated burden is 118,125 hours.

For copies of this proposal, contact Mary Beth Smith-Toomey on (202) 606-8358, Fax (202) 418-3251 or e-mail to mbtoomey@opm.gov. Please be sure to include a mailing address with your request.

DATES: Comments on this proposal should be received within 60 calendar days from the date of this publication.

ADDRESSES: Send or deliver comments to: Kathy Dillaman, Deputy Associate Director, Center for Federal Investigative Services, U.S. Office of Personnel Management, 1900 E. Street, Room 5416, Washington, DC 20415.

FOR INFORMATION REGARDING ADMINISTRATIVE COORDINATION CONTACT: Sabrina Price—Program Analyst, Program Services Group, Center for Federal Investigative Services, U.S. Office of Personnel Management, (202) 606-3534.

U.S. Office of Personnel Management.

Kay Coles James,
Director.

[FR Doc. 04-16398 Filed 7-19-04; 8:45 am]

BILLING CODE 6325-38-P